DEPARTMENT OF DEFENSE

Department of the Air Force

[Docket ID: USAF-2014-0021]

Privacy Act of 1974; System of Records

AGENCY: Department of the Air Force, DoD.

ACTION: Notice to alter a System of Records.

SUMMARY: The Department of the Air Force proposes to alter a system of records notice, F034 AF SVA F, entitled “Automated Air Force Library Information System” in its existing inventory of records systems subject to the Privacy Act of 1974, as amended. This system is used to track accountability of points of contact and materials checked out for office accounts using the Office Management (OCMAN) module. In addition it processes acquisitions for libraries and units; tracks funding; and reports statistical data. Individual's names, unit addresses and government email address may be sent to vendors as required to procure requested products.

DATES: Comments will be accepted on or before July 16, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/CIO A6, 1800 Air Force Pentagon, Washington, DC 20330-1800, or by phone at (571) 404-6575.

SUPPLEMENTARY INFORMATION: The Department of the Air Force's notices for systems of records subject to the Privacy Act of 1974 (5 U.S.C. 552a), as amended, have been published in the Federal Register and are available from the address in FOR FURTHER INFORMATION CONTACT or from the Defense Privacy and Civil Liberties Office at http://dpclo.defense.gov/.

The proposed systems reports, as required by 5 U.S.C. 552a(r) of the Privacy Act of 1974, as amended, were submitted on June 9, 2014, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: June 11, 2014.
Aaron Siegel,
Alternate OSD Federal Register Liaison Officer, Department of Defense.

F034 AF SVA F

System name:

Automated Air Force Library Information System (October 26, 2004, 69 FR 62438).

* * * * *

Changes:

System ID:

Delete entry and replace with “F034 AFPC A.”

System Name:

Delete entry and replace with “Air Force Library Information System (AFLIS).”

System Location:

Delete entry and replace with “Air Force Personnel Operation Agency, Database Operations Branch, Bldg 499, 550 C Street West Suite 50, JBSA Randolph AFB, TX 78150-4752.”

Categories of individuals covered by the system:

Delete entry and replace with “Air Force active duty, reserve, National Guard, civilians and contract personnel who are authorized to use the Air Force Library Information System.”

Categories of records in the system:

Delete entry and replace with “Name, office mailing address, unit, duty telephone number(s), and government email address. Uniquely system created account number, order number, and Library's Department of Defense Address Code (DODAC) number.”

Authority for maintenance of the system:

Delete entry and replace with “10 U.S.C. 8013, Secretary of the Air Force; Air Force Instruction 34-270, Air Force Library and Information System (AFLIS).”

Purpose(s):

Delete entry and replace with “This system is used to track accountability of points of contact and materials checked out for office accounts using the Office Management (OCMAN) module. In addition it processes acquisitions for libraries and units; tracks funding; and reports statistical data. Names, unit addresses and government email address may be sent to vendors as required to procure requested products.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses published at the beginning of the Air Force's compilation of systems of records notices may apply to this system.”

* * * * *

Storage:

Delete entry and replace with “Electronic storage media and/or paper records.”

Retrievability:

Delete entry and replace with “Unique account number, order number, and Library's DODAC number.”

Safeguards:

Delete entry and replace with “Records are accessed by authorized personnel who are properly screened, cleared, and trained. Electronic records are only accessed by authorized personnel with Common Access Cards (CACs) and need-to-know.”

Retention and disposal:

Delete entry and replace with “Records are destroyed when six years three months old, superseded, obsolete, or no longer needed for reference. Records are destroyed by tearing into pieces, shredding, pulping, macerating, or burning. Electronic records are destroyed by erasing, deleting, or overwriting.”

System manager(s) and address:

Delete entry and replace with “Air Force Library Information System Program Manager, Headquarters Air Force Personnel Center, Services Directorate, Libraries Branch, 2261 Hughes Avenue, Suite 156, JBSA Lackland, TX 78236-9854.”

Notification procedure:

Delete entry and replace with “Individuals seeking to determine whether this system of records contains information on themselves should address inquiries to the Air Force Library Information System Program Manager, Headquarters Air Force Personnel Center, Services Directorate, Libraries Branch, 2261 Hughes Avenue, Suite 156, JBSA Lackland, TX 78236-9854.

For verification purposes, individual should provide their full name and any details which may assist in locating records, and their signature. In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

Record access procedures:

Delete entry and replace with “Individuals seeking access to records about themselves contained in this system should address written inquiries or visit the Air Force Library Program Manager, Services Directorate, Libraries Branch, 2261 Hughes Avenue, Suite 156, Lackland Air Force Base, TX 78236-9852.

For verification purposes, individual should provide their full name and any details which may assist in locating records, and their signature. In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.”

* * * * *

Record source categories:

Delete entry and replace with “Information obtained from the individual.”

* * * * *

[FR Doc. 2014-13989 Filed 6-13-14; 8:45 am]

BILLING CODE 5001-06-P